PENSION BENEFIT GUARANTY CORPORATION

Privacy Act of 1974: Systems of Records

AGENCY: Pension Benefit Guaranty Corporation.

ACTION: Notice of changes to systems of records and addition of routine uses.

SUMMARY: Pursuant to the Privacy Act of 1974, as amended (5 U.S.C. 552a), the Pension Benefit Guaranty Corporation is proposing two new systems of records, adding new routine uses to existing systems of records, and is amending two systems of records to make technical and clarifying changes.

DATES: Comments on the new systems of records, proposed routine uses, and technical and clarifying changes must be received on or before November 25, 2013. The new systems of records, routine uses, and technical and clarifying changes will become effective on December 9, 2013 without further notice, unless comments result in a contrary determination and a notice is published to that effect.

ADDRESSES: You may submit written comments to PBGC by any of the following methods:

• Federal eRulemaking Portal: http://www.regulations.gov. Follow the Web site instructions for submitting comments.

• Email: reg.comments@pbgc.gov.

• Fax: 202-326-4224.

• Mail or Hand Delivery: Regulatory Affairs Group, Pension Benefit Guaranty Corporation, 1200 K Street NW., Washington, DC 20005-4026.

Comments received, including personal information provided, will be posted to http://www.pbgc.gov. Copies of comments may also be obtained by writing to Disclosure Division, Office of the General Counsel, Pension Benefit Guaranty Corporation, 1200 K Street NW., Washington, DC 20005-4026, or calling 202-326-4040 during normal business hours. (TTY and TDD users may call the Federal relay service toll-free at 1-800-877-8339 and ask to be connected to 202-326-4040.)

FOR FURTHER INFORMATION CONTACT: Marla Greenberg, Attorney, Pension Benefit Guaranty Corporation, Office of the General Counsel, 1200 K Street NW., Washington, DC 20005-4026, 202-326-4400 or 1-800-400-7242, extension 3110 (TTY and TDD users may call the Federal relay service toll-free at 1-800-877-8339 and ask to be connected to 202-326-4400). For access to any of the PBGC's systems of records, contact PBGC's Disclosure Officer, Office of the General Counsel, Disclosure Division, at the above address, 202-326-4040 or 1-800-400-7242.

SUPPLEMENTARY INFORMATION: The PBGC is proposing to add two new systems of records, PBGC-21, Reasonable Accommodation Records—PBGC; and PBGC-22, Telework and Alternative Worksite Records—PBGC. In addition, PBGC is proposing to alter the following systems of records maintained pursuant to the Privacy Act of 1974, as amended, by adding new routine uses: PBGC-2, Disbursements—PBGC (last updated at 75 FR 59252 (September 26, 2012)), and PBGC-6 Plan Participant and Beneficiary Data—PBGC (last updated at 75 FR 59252 (September 26, 2012)). PBGC is also amending two systems of records to make technical and clarifying changes after undertaking a periodic review of those systems as required under Appendix 1 to the Office of Management and Budget (“OMB”) Circular A-130, Management of Federal Information Resources (November 28, 2000). The two systems of records being amended are PBGC-2, Disbursements (last published at 75 FR 59252 (September 26, 2012)), and PBGC-6, Plan Participant and Beneficiary Data—PBGC (last published at 75 FR 59252 (September 26, 2012)).

Revising Routine Uses in PBGC System of Records PBGC-2 and PBGC-6

PBGC-2

For PBGC-2, Disbursements—PBGC, PBGC is amending Routine Use 1 to broaden the purpose of sharing information with the Department of the Treasury to enable PBGC to verify consultants' and vendors' eligibility to receive payments. This revision will enable PBGC to both effect payments to consultants and vendors, and to verify their eligibility to receive such payments. PBGC has determined that it is prudent to broaden the scope of the language to place consultants and vendors on notice that PBGC can also determine the eligibility of these entities to receive payments in addition to effecting payments.

PBGC-6

For PBGC-6, Plan Participant and Beneficiary Data—PBGC, PBGC is proposing to revise four existing routine uses. Routine Use 1, as revised, will permit the information of participants and beneficiaries of pension plans covered under Title IV of the Employee Retirement Income Security Act (“ERISA”) to be shared with parties outside of PBGC that elect to pay a supplemental pension benefit to those participants and beneficiaries. Routine Use 6, as revised, will no longer require that a request for information be notarized. This change will remove a barrier to requests made electronically. PBGC has also determined it is prudent to revise Routine Use 7 to provide PBGC with discretion to notify participants about information disclosed to an alternate payee (or their representative) under a qualified domestic relations order (QDRO). Routine Use 12, as revised, will consolidate what were previously two separately-stated routine uses of the information by the Department of the Treasury's Bureau of the Public Debt and the Social Security Administration. This revision will also allow PBGC to disclose payee information to the Internal Revenue Service (“IRS”) to permit PBGC to verify payees' social security numbers through an IRS matching program.

In addition, PBGC is planning to add three new routine uses to PBGC-6, Plan Participant and Beneficiary Data—PBGC. The newly proposed Routine Use 8 will provide a participant with the same right to information that Routine Use 7 provides for an alternate payee to allow a participant to pursue an administrative appeal of a benefit determination. The newly proposed Routine Use 9 will allow PBGC to disclose information needed to explain PBGC's calculation of a benefit affected by a QDRO to participants and alternate payees. PBGC's newly proposed Routine Use 13 will allow PBGC to determine which of its payees who currently receive their benefits by paper check have electronic debit card accounts and will enable PBGC to pay benefits through these electronic deposit accounts.

Finally, PBGC is removing the applicability of PBGC's General Routine Use G13 to PBGC-6, Plan Participant and Beneficiary Data—PBGC. PBGC has determined that General Routine Use G13, which allows PBGC to disclose information contained within a system of records to a federal agency in connection with hiring or retaining an employee, does not apply to this system of records.

Addition of System of Records

PBGC-21, Reasonable Accommodation Records—PBGC

PBGC is proposing to establish a new system of records entitled, “PBGC-21, Reasonable Accommodation Records—PBGC.” This proposed system of records is necessary to the functions performed by the Human Resources Department (“HRD”), and will cover only those files that identify by name, or other personal identifier, individuals who request or receive reasonable accommodations. The system includes records that are used to determine qualification for reasonable accommodation for prospective, current, or former employees, including medical documentation. Additionally, records maintained in this system may include an employee's name, personal address, and other personal contact information; the employee's occupational series and grade level; the employee's operating division/function office location, mailing address, telephone number, and email address; information about the individual's disability or medical condition; type of reasonable accommodation requested; explanation of how a reasonable accommodation would assist the employee in the performance of his/her job; relevant medical documentation and other supporting documents; deciding official's name and title; essential duties of the position; information relating to an individual's capability to satisfactorily perform the duties of the position currently held; estimated cost of accommodation; whether the accommodation was requested pre-employment or during employment with the agency; the amount of time taken to process the request; whether the request was granted or denied, and, if denied, the reason for the denial; the sources of technical assistance consulted in trying to identify possible reasonable accommodations; and other supporting documents relating to reasonable accommodation.

HRD, as it has always done, will continue to respect the privacy of individuals named in these files and will disclose, within the boundaries of the law, the least amount of information necessary to perform its responsibilities.

The collection and maintenance of records subject to this system are not new because records of the same type have been collected and maintained in HRD since the establishment of PBGC's reasonable accommodation program. Electronic information will be kept in an environment with physical security, including protection by network and system-specific user identification numbers to individuals needing access to the records and by passwords set and periodically changed by authorized users. Computers and hard copy records are maintained in a secured environment.

Pursuant to 5 U.S.C. 552a(e)(11), interested persons are invited to submit written comments on this proposal. A report on the proposed system has been sent to Congress and the Office of Management and Budget for their evaluation.

PBGC-22, Telework and Alternative Worksite Records—PBGC

PBGC is proposing to establish a new system of records entitled, “PBGC-22, Telework and Alternative Worksite Records—PBGC.” The proposed system of records is necessary to the functions performed by the Workplace Solutions Department (“WSD”), and will cover only those files that identify by name, or other personal identifier, individuals who have been granted or denied authorization to participate in PBGC's Telework Program to work at an alternative worksite apart from their official PBGC duty station. The system includes records that are used to determine a prospective, current, or former employee's qualification to participate in PBGC's Telework Program, including medical documentation. Additionally, records maintained in this system may include an employee's name, position title, grade, job series, and department name; official PBGC duty station address and telephone number; alternative worksite address and telephone number(s); date telework agreement received and approved/denied; telework request and approval form; telework agreement, self-certification home safety checklist, and supervisor-employee checklist; type of telework requested (e.g., episodic or regular); regular work schedule; telework schedule; approvals/disapprovals; description and list of government-owned equipment and software provided to the teleworker; mass transit benefits received through PBGC's mass transit subsidy program; parking subsidies received through PBGC's subsidized parking program; medical documentation necessitating medical telework; and any other miscellaneous documents supporting telework.

WSD, as it has always done, will continue to respect the privacy of individuals named in these files and will disclose, within the boundaries of the law, the least amount of information necessary to perform its responsibilities.

The collection and maintenance of records subject to this system are not new because records of the same type have been collected and maintained in WSD since the establishment of PBGC's Telework program. Electronic information will be kept in an environment with physical security, including protection by network and system-specific user identification numbers to individuals needing access to the records and by passwords set and changed periodically by authorized users. Computers and hard copy records are maintained in a secured environment.

Pursuant to 5 U.S.C. 552a(e)(11), interested persons are invited to submit written comments on this proposal. A report on the proposed system has been sent to Congress and the Office of Management and Budget for their evaluation.

Technical and Clarifying Amendments

PBGC is amending PBGC-2, Disbursements—PBGC, and PBGC-6, Plan Participant and Beneficiary Data—PBGC. For its system of records, PBGC-2, Disbursements—PBGC, PBGC is correcting and updating the category of records maintained in this system of records. PBGC is also proposing to amend another system of records, PBGC-6, Plan Participant and Beneficiary Data—PBGC, to enable third parties to pay supplemental pension benefits outside the scope of Title IV of ERISA to participants and beneficiaries. These amendments clarify the nature and purposes of these systems of records and reflect changes that have occurred since they were last published.

Issued in Washington, DC this 18th day of September, 2013.
Joshua Gotbaum,
Director, Pension Benefit Guaranty Corporation.

PBGC-2

SYSTEM NAME:

Disbursements—PBGC.

SECURITY CLASSIFICATION:

Not applicable.

SYSTEM LOCATION:

Pension Benefit Guaranty Corporation, 1200 K Street NW., Washington, DC 20005-4026; PBGC, 1275 K Street NW., Washington, DC 20005-4026; PBGC Benefits Service, 2500 Grubb Road, Suites 140 and 221, Wilmington, DE 19810; PBGC Document Management Center, 5971 Kingstowne Village Parkway, Alexandria, VA 2231.

CATEGORIES OF INDIVIDUALS COVERED BY THE SYSTEM:

Individuals who are consultants and vendors to the PBGC.

CATEGORIES OF RECORDS IN THE SYSTEMS:

Acquisition data for the procurement of goods and services. Consultant or vendor information including: Invoices; payment vouchers; name; address; Commercial and Government Entity (CAGE) codes; Dun & Bradstreet Data Universal Numbering System (DUNS) numbers; social economic status; Web site; primary and/or government point of contact (including name, address, telephone number, and fax number of contacts); and taxpayer identification number.

AUTHORITY FOR MAINTENANCE OF THE SYSTEM:

29 U.S.C. 1302; 44 U.S.C. 3101.

PURPOSE(S):

This system of records is maintained for use in determining amounts to be paid and in effecting payments by the Department of the Treasury to consultants and vendors.

ROUTINE USES OF RECORDS MAINTAINED IN THE SYSTEM, INCLUDING CATEGORIES OF USERS AND THE PURPOSES OF SUCH USES:

1. A record from this system of records may be transmitted to the United States Department of the Treasury to effect payments to consultants and vendors, or to verify consultants' and vendors' eligibility to receive payments.

2. General Routine Uses G1 through G7, G9 through G12 apply to this system of records.

DISCLOSURE TO CONSUMER REPORTING AGENCIES:

Information may be disclosed to a consumer reporting agency in accordance with 31 U.S.C. 3711(f) and/or (5 U.S.C. 552a(b)(12)).

POLICIES AND PRACTICES FOR STORING, RETRIEVING, ACCESSING, RETAINING, AND DISPOSING OF RECORDS IN THE SYSTEM:

STORAGE:

Records are maintained by PBGC manually in file folders and/or in electronic format, including computer databases, magnetic tapes, or discs.

RETRIEVABILITY:

Records are indexed by name, tax payer identification number, and contract number.

SAFEGUARDS:

Records are kept in file cabinets in areas of restricted access that are locked after office hours. Electronic records are stored on computer networks and are protected by assigning user identification numbers to individuals needing access to the records and by passwords set by authorized users that must be changed periodically.

RETENTION AND DISPOSAL:

Pursuant to PBGC's Simplified Records Schedule 1.2, PBGC retains the records for seven years. Records also may be maintained on PBGC's network back-up tapes.

Records existing on paper are destroyed by burning, pulping, or shredding. Records existing on computer storage media are destroyed according to the applicable PBGC media sanitization practice.

SYSTEM MANAGER(S) AND ADDRESS:

Director, Financial Operations Department, Pension Benefit Guaranty Corporation, 1200 K Street NW., Washington, DC 20005-4026.

NOTIFICATION PROCEDURE:

Procedures are detailed in PBGC regulations: 29 CFR Part 4902.

RECORD ACCESS PROCEDURES:

Same as notification procedure.

Contesting record procedures:

Same as notification procedure.

RECORD SOURCE CATEGORIES:

Individuals who are consultants and vendors to the PBGC.

EXEMPTIONS CLAIMED FOR THE SYSTEM:

None.

PBGC-6

SYSTEM NAME:

Plan Participant and Beneficiary Data—PBGC.

SECURITY CLASSIFICATION:

Not applicable.

SYSTEM LOCATION:

Pension Benefit Guaranty Corporation, 1200 K Street NW., Washington, DC 20005-4026 and/or field benefit administrator, plan administrator, and paying agent worksites.

CATEGORIES OF INDIVIDUALS COVERED BY THE SYSTEM:

Participants, alternate payees, and beneficiaries in terminating and terminated pension plans covered by Title IV of the Employee Retirement Income Security Act of 1974, as amended (ERISA).

CATEGORIES OF RECORDS IN THE SYSTEM:

Names, addresses, telephone numbers, sex, social security numbers and other Social Security Administration information, dates of birth, dates of hire, salary, marital status, domestic relations orders, time of plan participation, eligibility status, pay status, benefit data, health-related information, insurance information where plan benefits are provided by private insurers, pension plan names and numbers, and initial and final PBGC determinations (29 CFR 4003.21 and 4003.59). The records listed herein are included only as pertinent or applicable to the individual plan participant, alternate payee, or beneficiary.

AUTHORITY FOR MAINTENANCE OF THE SYSTEM:

29 U.S.C. 1055, 1056(d)(3), 1302, 1321, 1322, 1322a, 1341, 1342 and 1350; 26 U.S.C. 6103; 44 U.S.C. 3101.

PURPOSE(S):

This system of records is maintained for use in determining whether participants, alternate payees, and beneficiaries are eligible for benefits under plans covered by Title IV of ERISA, determining supplemental payments to be paid to those persons by a party other than PBGC, determining the amounts of benefits to be paid, making benefit payments, collecting benefit overpayments, and complying with statutory and regulatory mandates. Names, addresses, and telephone numbers are used to survey customers to measure their satisfaction with the PBGC's benefit payment services and to track (for follow-up) those who do not respond to surveys.

ROUTINE USES OF RECORDS MAINTAINED IN THE SYSTEM, INCLUDING CATEGORIES OF USERS AND THE PURPOSES OF SUCH USES:

1. A record from this system of records may be disclosed to third parties, such as banks, insurance companies, or trustees, to enable these third parties to make or determine benefit payments to determine supplemental payments by a party other than PBGC, to plan participants and beneficiaries, and to report to the IRS the amounts of benefits—paid or required to be paid under federal law and taxes withheld.

2. A record from this system of records may be disclosed, in furtherance of proceedings under Title IV of ERISA, to a contributing sponsor (or other employer who maintained the plan), including any predecessor or successor, and any member of the same controlled group.

3. A record from this system of records may be disclosed, upon request for a purpose authorized under Title IV of ERISA, to an official of a labor organization recognized as the current or former collective bargaining representative of the individual about whom a request is made.

4. Payees' names, addresses, and telephone numbers and information pertaining to debts owed by such payees to the PBGC may be disclosed to the Department of the Treasury or a debt collection agency or firm to collect a claim. Disclosure to a debt collection agency or firm shall be made only under a contract issued by the federal government that binds any such contractor or employee of such contractor to the penalties of the Privacy Act. The information so disclosed shall be used exclusively pursuant to the terms and conditions of such contract and shall be used solely for the purposes prescribed therein. The contract shall provide that the information so disclosed shall be returned at the conclusion of the debt collection effort.

5. The name and social security number of a participant employed or formerly employed as a pilot by a commercial airline may be disclosed to the Federal Aviation Administration (FAA) to obtain information relevant to the participant's eligibility or continued eligibility for disability benefits.

6. The name of a participant's pension plan, the actual or estimated amount of a participant's benefit under Title IV of ERISA, the form(s) in which the benefit is payable, and whether the participant is currently receiving benefit payments under the plan or (if not) the earliest date(s) such payments could commence may be disclosed to the participant's spouse, former spouse, child, or other dependent solely to obtain a qualified domestic relations order under 29 U.S.C. 1056(d) and 26 U.S.C. 414(p). The PBGC will disclose the information only upon the receipt of a written request by a prospective alternate payee, or the payee's representative, that describes the requester's relationship to the participant and states that the information will be used solely to obtain a qualified domestic relations order under state domestic relations law. The PBGC will notify the participant of any information disclosed to a prospective alternate payee or their representative under this routine use. Any person who knowingly and willfully requests or obtains any record concerning an individual under false pretenses is subject to a criminal penalty under 5 U.S.C. 552a(i)(3).

7. Information from a participant's initial determination under 29 CFR 4003.1(b) (excluding the participant's address, telephone number, social security number, and any sensitive medical information) may be disclosed to an alternate payee, or their representative, under a qualified domestic relations order issued pursuant to 29 U.S.C. 1056(d) and 26 U.S.C. 414(p) to explain how the PBGC determined the benefit due the alternate payee so that the alternate payee can pursue an administrative appeal of the benefit determination under 29 CFR 4003.51. The PBGC may notify the participant of the information disclosed to an alternate payee or their representative under this routine use.

8. Information from an alternate payee's initial determination under 29 CFR 4003.1(b) (excluding the alternate payee's address, telephone number, social security number, and any sensitive medical information) may be disclosed to a participant, or their representative, under a qualified domestic relations order issued pursuant to 29 U.S.C. 1056(d) and 26 U.S.C. 414(p) to explain how the PBGC determined the benefit due the participant so that the participant can pursue an administrative appeal of the benefit determination under 29 CFR 4003.51. The PBGC may notify the alternate payee of the information disclosed to a participant or their representative under this routine use.

9. Information used in calculating the benefit, or share of the benefit, of a participant or alternate payee (excluding the participant's or alternate payee's address, telephone number, social security number, and any sensitive medical information) may be disclosed to a participant or an alternate payee, or their representative, when (a) a qualified domestic relations order issued pursuant to 29 U.S.C. 1056(d) and 26 U.S.C. 414(p) affects the calculation of the benefit, or share of the benefit, of the participant or alternate payee; and (b) the information is needed to explain to the participant or alternate payee how the PBGC calculated the benefit, or share of the benefit, of the participant or alternate payee. The PBGC may notify the participant or the alternate payee, or their representative, as appropriate, of the information disclosed to the participant or the alternate payee, or their representative, under this routine use.

10. The names, addresses, social security numbers, dates of birth, and the pension plan name and number of eligible PBGC pension recipients may be disclosed to the Department of the Treasury and the Department of Labor to implement the income tax credit for health insurance costs under 26 U.S.C. 35 and the program for advance payment of the tax credit under 26 U.S.C. 7527.

11. The names, addresses, social security numbers, and dates of birth of eligible PBGC pension recipients residing in a particular state may be disclosed to the state's workforce agency if the agency received a National Emergency Grant from the Department of Labor under the Workforce Investment Act of 1988 to provide health insurance coverage assistance and support services for state residents under 29 U.S.C. 2918(a) and (f).

12. Payees' names, social security numbers, and dates of birth may be provided to the Department of the Treasury's Bureau of the Public Debt, the Social Security Administration, and the Internal Revenue Service to verify payees' eligibility to receive payments.

13. Names and social security numbers of participants and beneficiaries may be provided to the Department of the Treasury, the Department of the Treasury's financial agent, and the Federal Reserve Bank for the purpose of learning which of PBGC's check payees have established electronic debit card accounts used for the electronic deposit of federal benefit payments.

14. General Routine Uses G1, G2, G4 through G7, G9 through G12 apply to this system of records.

DISCLOSURE TO CONSUMER REPORTING AGENCIES:

Information may be disclosed to a consumer reporting agency in accordance with 31 U.S.C. 3711(f) (5 U.S.C. 552a(b)(12)).

POLICIES AND PRACTICES FOR STORING, RETRIEVING, ACCESSING, RETAINING, AND DISPOSING OF RECORDS IN THE SYSTEM:

STORAGE:

Records are maintained in paper, microfiche, and electronic form.

RETRIEVABILITY:

Records are indexed by plan name and number, and participant and/or beneficiary name. Customer satisfaction survey responses are aggregated for statistical purposes after they have been received by the PBGC and are not retrievable by a participant or beneficiary's name or other assigned identifier.

SAFEGUARDS:

Paper and microfiche records are kept in file folders in areas of restricted access that are locked after office hours. Electronic records are stored on computer networks and protected by assigning user identification numbers to individuals needing access to the records and by passwords set by authorized users that must be changed periodically.

RETENTION AND DISPOSAL:

Records for participants in a particular plan are destroyed seven years after all payments have been made to all participants, beneficiaries, and alternate payees associated with that plan. Records existing on paper or microfiche are destroyed by shredding. Records existing on other media and computer storage media are destroyed according to the applicable PBGC Information Assurance Handbook guidance on media sanitization practice.

SYSTEM MANAGER(S) AND ADDRESS:

Director, Benefits Administration and Payment Department, Pension Benefit Guaranty Corporation, 1200 K Street NW., Washington, DC 20005-4026.

NOTIFICATION PROCEDURE:

Procedures are detailed in the PBGC's regulations: 29 CFR Part 4902.

RECORD ACCESS PROCEDURES:

Same as notification procedure.

CONTESTING RECORDS PROCEDURE:

Same as notification procedure.

RECORD SOURCE CATEGORIES:

Plan administrators, participants, alternate payees, and beneficiaries, the FAA, and the IRS.

EXEMPTIONS CLAIMED FOR THE SYSTEM:

None.

PBGC-21

SYSTEM NAME:

PBGC-21, Reasonable Accommodation Records—PBGC.

SECURITY CLASSIFICATION:

Not applicable.

SYSTEM LOCATION:

Pension Benefit Guaranty Corporation, 1200 K Street NW., Washington, DC 20005-4026.

CATEGORIES OF INDIVIDUALS COVERED BY THE SYSTEM:

Prospective, current, and former employees of the PBGC who request or receive a reasonable accommodation under Sections 501, 504, and 701 of the Rehabilitation Act of 1973 and the Americans with Disabilities Act Amendments Act (ADAAA) of 2008. This also includes authorized individuals or representatives (e.g., family members, union representatives, or attorneys) who file requests for reasonable accommodation on behalf of an applicant for employment, current employees, and former employees.

CATEGORIES OF RECORDS IN THE SYSTEM:

Records that are used to determine qualification for reasonable accommodation, including medical documentation. The records may include requests for reasonable accommodation, as well as position descriptions, medical records, notes or records made during consideration of requests, and decisions on requests. Additionally, records may include an employee's name, personal address, and other personal contact information; the employee's occupational series and grade level; the employee's operating division/function, office location, mailing address, telephone number, and email address; information about the nature of the individual's disability or medical condition; type of reasonable accommodation requested; explanation of how a reasonable accommodation would assist the employee in the performance of his/her job; relevant medical documentation and other supporting documents; deciding official's name and title; essential duties of the position; information relating to an individual's capability to satisfactorily perform the duties of the position currently held; estimated cost of accommodation; whether the accommodation was requested pre-employment or during employment with the agency; the amount of time taken to process the request; whether the request was granted or denied, and, if denied, the reason for the denial; the sources of technical assistance consulted in trying to identify possible reasonable accommodations; and other supporting documents relating to reasonable accommodation.

If an accommodation request is made by a family member, health professional, attorney, or representative of a PBGC employee or applicant, the records may contain the requester's name, email address, mailing address, telephone number, and any additional information provided by the requester relating to the processing of the request.

AUTHORITY FOR MAINTENANCE OF THE SYSTEM:

Sections 501, 504, and 701 of the Rehabilitation Act of 1973; ADA Amendments of 2008; Executive Order 13164 (July 28, 2000); and Executive Order 13548 (July 10, 2010).

PURPOSE(S):

The purpose of this system is to allow PBGC to collect and maintain records on prospective, current, and former employees with disabilities who requested or received reasonable accommodation by PBGC as required by Sections 501, 504, and 701 of the Rehabilitation Act of 1973 and the ADAAA of 2008. The purpose of this system is also to track and report the processing of requests for reasonable accommodation PBGC-wide to comply with applicable law and regulations, and to preserve and maintain the confidentiality of medical information submitted by or on behalf of applicants or employees requesting reasonable accommodation.

ROUTINE USES OF RECORDS MAINTAINED IN THE SYSTEM, INCLUDING CATEGORIES OF USERS AND THE PURPOSES OF SUCH USES:

1. A record from this system of records may be disclosed to physicians or other medical professionals to provide them with or obtain from them the necessary medical documentation and/or certification for reasonable accommodation.

2. A record from this system of records may be disclosed to another federal agency or commission with responsibility for labor or employment relations or other issues, including equal employment opportunity and reasonable accommodation issues, when that agency or commission has jurisdiction over reasonable accommodation issues.

3. A record from this system of records may be disclosed to the Office of Management and Budget (OMB), Department of Labor (DOL), Office of Personnel Management (OPM), Equal Employment Opportunity Commission (EEOC), or Office of Special Counsel (OSC) to obtain advice regarding statutory, regulatory, policy, and other requirements related to reasonable accommodation.

4. A record from this system of records may be disclosed to appropriate third-parties contracted by the Agency to facilitate mediation or other dispute resolution procedures or programs.

5. A record from this system of records may be disclosed to the Department of Defense (DOD) for purposes of procuring assistive technologies and services through the Computer/Electronic Accommodation Program in response to a request for reasonable accommodation.

6. General Routine Uses G1 through G13.

DISCLOSUSRE TO CONSUMER REPORTING AGENCIES:

None.

POLICIES AND PRACTICES FOR STORING, RETRIEVING, ACCESSING, RETAINING, AND DISPOSING OF RECORDS IN THE SYSTEM:

STORAGE:

Records are maintained manually in file folders and/or in automated form, including computer databases, magnetic tapes, or discs. Records are also maintained on PBGC's network back-up tapes.

RETRIEVABILITY:

Records are indexed and retrieved using employee name and fiscal year of request for (or receipt of) reasonable accommodation.

SAFEGUARDS:

Paper records are kept in file cabinets in areas of restricted access that are locked after office hours. Only authorized personnel may be given access to either the secured area or the locked file cabinet. Electronic records are stored on computer networks and protected by assigning both network and system-specific user identification numbers to individuals needing access to the records and by passwords set by authorized users that must be changed periodically. Access to electronic records is limited to only those individuals who have a need to know the information for the performance of their official duties and who have appropriate clearances or permissions.

RETENTION AND DISPOSAL:

Pursuant to NARA General Records Schedule (GRS) 1 Section 24, records are maintained for three years from the employee's separation from PBGC or after all appeals have concluded, whichever is later. Records are also maintained on PBGC's network back-up tapes. All medical information, including information about functional limitations and reasonable accommodation needs obtained in connection with a request for reasonable accommodation, must be kept confidential and shall be maintained in files separate from the individual's official personnel file. Additionally, employees who obtain or receive such information are strictly bound by these confidentiality requirements. Whenever medical information is disclosed, the individual disclosing the information must inform the recipients of the information about the confidentiality requirements that attach to it.

SYSTEM MANAGER(S) AND ADDRESS:

Reasonable Accommodation Coordinator, Human Resources Department, Pension Benefit Guaranty Corporation, 1200 K Street NW., Washington, DC 20005-4026.

NOTIFICATION PROCEDURE:

Procedures are detailed in PBGC regulations: 29 CFR part 4902.

RECORD ACCESS PROCEDURES:

Same as notification procedure.

CONTESTING RECORD PROCEDURES:

Same as notification procedure.

RECORD SOURCE CATEGORIES:

Prospective, current, and former PBGC employees.

EXEMPTIONS CLAIMED FOR THE SYSTEM:

None.

PBGC-22

SYSTEM NAME:

Telework and Alternative Worksite Records—PBGC.

SECURITY CLASSIFICATION:

Not applicable.

SYSTEM LOCATION:

Pension Benefit Guaranty Corporation, 1200 K Street NW., Washington, DC 20005-4026.

CATEGORIES OF INDIVIDUALS COVERED BY THE SYSTEM:

Prospective, current, and former employees of the PBGC who have been granted or denied authorization to participate in PBGC's Telework Program to work at an alternative worksite apart from their official PBGC duty station.

CATEGORIES OF RECORDS IN THE SYSTEM:

Records include an employee's name, position title, grade, job series, and department name; official PBGC duty station address and telephone number; alternative worksite address and telephone number(s); date telework agreement received and approved/denied; telework request and approval form; telework agreement, self-certification home safety checklist, and supervisor-employee checklist; type of telework requested (e.g., episodic or regular); regular work schedule; telework schedule; approvals/disapprovals; description and list of government-owned equipment and software provided to the teleworker; mass transit benefits received through PBGC's mass transit subsidy program; parking subsidies received through PBGC's subsidized parking program; medical documentation necessitating medical telework; and any other miscellaneous documents supporting telework.

AUTHORITY FOR MAINTENANCE OF THE SYSTEM:

5 U.S.C. 6120, Telecommuting in Executive Agencies; 29 U.S.C. 701 et seq.

PURPOSE(S):

The purpose of this system is to allow PBGC to collect and maintain records on prospective, current, and former employees who seek to participate in PBGC's Telework Program.

ROUTINE USES OF RECORDS MAINTAINED IN THE SYSTEM, INCLUDING CATEGORIES OF USERS AND THE PURPOSES OF SUCH USES:

1. A record from this system may be disclosed to medical professionals to obtain information about an employee's medical background necessary to grant or deny approval of medical telework.

2. A record from this system may be disclosed to federal, state, or local governments during actual emergencies, exercises, or continuity of operations tests for the purposes of emergency preparedness and responding to emergency situations.

3. A record from this system may be disclosed to the Department of Labor when an employee is injured when working at home while in the performance of normal duties.

4. A record from this system may be disclosed to the Office of Personnel Management (OPM) for use in its Telework Survey to provide consolidated data on participation in PBGC's Telework Program.

5. A record from this system of records may be disclosed to appropriate third-parties contracted by the Agency to facilitate mediation or other dispute resolution procedures or programs.

6. PBGC's General Routine Uses G1 through G13 also apply to this system of records.

DISCLOSURE TO CONSUMER REPORTING AGENCIES:

None.

POLICIES AND PRACTICES FOR STORING, RETRIEVING, ACCESSING, RETAINING, AND DISPOSING OF RECORDS IN THE SYSTEM:

STORAGE:

Records are maintained manually in file folders and/or in automated form, including computer databases, magnetic tapes, or discs. Records are also maintained on PBGC's network back-up tapes.

RETRIEVABILITY:

Records are indexed and retrieved using employee name and by the department in which the employee works, will work, or previously worked.

SAFEGUARDS:

Paper records are kept in file cabinets in areas of restricted access that are locked after office hours. Only authorized personnel may be given access to either the secured area or the locked file cabinet. Electronic records are stored on computer networks and protected by assigning both network and system-specific user identification numbers to individuals needing access to the records and by passwords set by authorized users that must be changed periodically. Access to electronic records is limited only to those individuals who have a need to know the information for the performance of their official duties and who have appropriate clearances or permissions.

RETENTION AND DISPOSAL:

Records are destroyed two years after the employee's participation in the program ends. Unapproved requests are destroyed two years after the request is rejected.

SYSTEM MANAGER(S) AND ADDRESS:

Telework Coordinator, Workplace Solutions Department, Pension Benefit Guaranty Corporation, 1200 K Street NW., Washington, DC 20005-4026.

NOTIFICATION PROCEDURE:

Procedures are detailed in PBGC regulations: 29 CFR Part 4902.

RECORD ACCESS PROCEDURES:

Same as notification procedure.

CONTESTING RECORD PROCEDURES:

Same as notification procedure.

RECORD SOURCE CATEGORIES:

Prospective, current, and former PBGC employees.

EXEMPTIONS CLAIMED FOR THE SYSTEM:

None.

[FR Doc. 2013-25216 Filed 10-24-13; 8:45 am]

BILLING CODE 7709-02-P